DEPARTMENT OF THE INTERIOR

National Park Service

[NPS-WASO-NAGPRA-NPS0037668; PPWOCRADN0-PCU00RP14.R50000]

Notice of Intended Repatriation: St. Joseph Museums, Inc; St. Joseph, MO

AGENCY: National Park Service, Interior.

ACTION: Notice.

SUMMARY: In accordance with the Native American Graves Protection and Repatriation Act (NAGPRA), the St. Joseph Museums, Inc. intends to repatriate certain cultural items that meet the definition of sacred objects and objects of cultural patrimony and that have a cultural affiliation with the Indian Tribes or Native Hawaiian organizations in this notice.

DATES: Repatriation of the cultural items in this notice may occur on or after May 8, 2024.

ADDRESSES: Tori Zieger, St. Joseph Museums, Inc., 3406 Frederick Avenue, St. Joseph, MO 64506, telephone (816) 752-2778 (cell); email tori@stjosephmuseum.org.

SUPPLEMENTARY INFORMATION: This notice is published as part of the National Park Service's administrative responsibilities under NAGPRA. The determinations in this notice are the sole responsibility of the St. Joseph Museums, Inc. and additional information on the determinations in this notice, including the results of consultation, can be found in the summary or related records. The National Park Service is not responsible for the determinations in this notice.

Abstract of Information Available

A total of two cultural items have been requested for repatriation. The two sacred objects/objects of cultural patrimony are sacred bundles, labeled as medicine bags in museum inventory. The first medicine bundle is labeled as belonging to Otter Lodge. This bundle was sold to Harry L. George approximately February of 1916 by Vern Thornburg of Lincoln, NE. The second bundle is labeled as belonging to Snake Lodge. It was sold to Harry L. George in the early 1900s.

Determinations

The St. Joseph Museums, Inc. has determined that:

• The two sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a reasonable connection between the cultural items described in this notice and the Iowa Tribe of Kansas and Nebraska.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 8, 2024. If competing requests for repatriation are received, the St. Joseph Museums, Inc. must determine the most appropriate requestor prior to repatriation. Requests for joint repatriation of the cultural items are considered a single request and not competing requests. The St. Joseph Museums, Inc. is responsible for sending a copy of this notice to the Indian Tribes and Native Hawaiian organizations identified in this notice and to any other consulting parties.

Authority: Native American Graves Protection and Repatriation Act, 25 U.S.C. 3004 and the implementing regulations, 43 CFR 10.9.

Dated: March 22, 2024.
Melanie O'Brien,
Manager, National NAGPRA Program.

[FR Doc. 2024-07355 Filed 4-5-24; 8:45 am]

BILLING CODE 4312-52-P